DEPARTMENT OF DEFENSE

Office of the Secretary

[Transmittal No. 25-1B]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1B.

Dated: February 4, 2026.
Stephanie J. Bost,
Alternate OSD Federal Register Liaison Officer, Department of Defense.

BILLING CODE 6001-FR-P

BILLING CODE 6001-FR-C

Transmittal No. 25-1B

REPORT OF ENHANCEMENT OR UPGRADES IN SENSITIVITY OF TECHNOLOGY OR CAPABILITY (SEC. 36(B)(5)(C) AECA)

(i) Prospective Purchaser: Government of Singapore

(ii) Sec. 36(b)(1), AECA Transmittal No.: 24-83

Date: September 9, 2024

Implementing Agency: Air Force

Funding Source: National Funds

(iii) Description: On September 9, 2024, Congress was notified by congressional certification transmittal number 24-83 of the possible sale under Section 36(b)(1) of the Arms Export Control Act of fifty-four (54) AIM-120 C8 Advanced Medium Range Air-to-Air Missiles (AMRAAM); and two (2) AIM-120C-8 AMRAAM guidance sections. Also included were AMRAAM control section spares, missile containers, and support equipment; Common Munitions Built-In-Test (BIT)/Reprogramming Equipment (CMBRE); ADU-89/E Adapter Group Computer Test Set; spare parts, consumables and accessories, and repair and return support; weapon system support and software, and classified software delivery and support; classified and unclassified publications and technical documentation; training support and equipment; studies and surveys; United States (U.S.) Government and contractor engineering, technical, and logistics support services; and other related elements of logistics and program support. The estimated total cost was $133 million. Major Defense Equipment (MDE) constituted $110 million of this total.

This transmittal notifies the inclusion of the following additional MDE items: fifty-five (55) AIM-120C-8 Advanced Medium Range Air-to-Air Missiles (AMRAAM) and two (2) AIM-120C-8 AMRAAM guidance sections. Also included are non-MDE missile component parts and support equipment and other related elements of logistics and program support. The estimated total value of the new items and services is $158 million. The estimated non-MDE value will increase by $13 million to a revised $36 million. The estimated total case value will increase by $158 million to a revised $291 million. MDE constitutes $255 million of this total.

(iv) Significance: The proposed sale will meet Singapore's need to maintain operational readiness and interoperability with U.S. and coalition forces. This sale increases Singapore's effectiveness in both training and combat operations and contributes to stability and deterrence in the Indo-Pacific region.

(v) Justification: This proposed sale will support the foreign policy and national security objectives of the United States by improving the security of a strategic partner that is an important force for political stability and economic progress in Asia.

(vi) Sensitivity of Technology:

The Sensitivity of Technology statement contained in the original notification applies to the additional items reported here. The highest level of classification of defense articles, components, and services included in this potential sale is SECRET.

(vii) Date Report Delivered to Congress: November 20, 2025

[FR Doc. 2026-02396 Filed 2-5-26; 8:45 am]

BILLING CODE 6001-FR-P